DEPARTMENT OF AGRICULTURE

Forest Service

DEPARTMENT OF THE INTERIOR

Bureau of Land Management

[CA650-08-5101-ER-B294-P]

Angeles National Forest, CA; Ridgecrest Field Office, CA; Barren Ridge Renewable Transmission Project

AGENCY: U.S. Department of Agriculture, Forest Service and U.S. Department of the Interior, Bureau of Land Management.

ACTION: Notice of Intent to prepare a joint Environmental Impact Statement/Report for the Barren Ridge Renewable Transmission Project.

SUMMARY: In accordance with the National Environmental Policy Act (NEPA) and the California Environmental Quality Act (CEQA), the U.S. Department of Agriculture (USDA), Forest Service (Forest Service), the U.S. Department of the Interior (DOI), Bureau of Land Management (BLM) and the City of Los Angeles Department of Water and Power (LADWP) will prepare a joint Environmental Impact Statement (EIS) and Environmental Impact Report (EIR) for the proposed Barren Ridge Renewable Transmission Project. This action is in response to LADWP's application to the Forest Service for a special use authorization and amendments to existing special use authorizations, and application to BLM for a right-of-way grant and amendments to existing right-of-way grants. It has been determined that this project is a major federal action which may have a significant impact upon the environment. Therefore, the appropriate environmental analysis document is an EIS/EIR. The EIS/EIR would describe and analyze potential environmental impacts from the proposed project/action and the range of reasonable alternatives. LADWP proposes the following: (1) Construction of a 230 kilovolt (kV) transmission line from the existing Barren Ridge Switching Station to Haskell Canyon on double circuit structures; (2) addition of a 230 kV circuit on existing double circuit structures from Haskell Canyon to the Castaic Power Plant; (3) upgrading of the existing Owens Gorge-Rinaldi (OG-RIN) 230 kV Transmission Line with larger capacity conductors between the Barren Ridge Switching Station and Rinaldi Substation; (4) construction of a new electrical switching station within Haskell Canyon near the southern boundary of the Angeles National Forest.

This notice initiates the public participation and scoping process for the EIS/EIR and also serves as an invitation for other interested agencies, individuals, organizations and Native American Tribes to provide comments on the scope and content of the EIS/EIR.

DATES: Comments concerning the scope of the analysis are requested by May 7, 2008. Seven public scoping meetings are planned to provide information about the proposed project/action and to allow people to comment on the proposed project/action. The draft EIS/EIR is expected to be published in July 2009 and the final EIS/EIR is expected in January 2010.

ADDRESSES: To request a copy of the draft or final EIS/EIR, and/or to send written comments, and/or to be added to the project mailing list, please write to the Forest Service/BLM/LADWP c/o POWER Engineers, Inc., 731 E. Ball Rd., Suite 100, Anaheim, CA 92805.

E-mail communications are also welcome; however, please remember to include your name and a return address in the email message. E-mail messages should be sent to BRRTP@powereng.com. Information about the applications and the environmental review process will be posted on the Internet at: http://ladwp.com/barrenridge. This site will be used to post all public documents during the environmental review process and to announce upcoming public meetings. See SUPPLEMENTARY INFORMATION for dates and addresses of future public meetings.

FOR FURTHER INFORMATION CONTACT: For additional information related to the project please contact the lead agency project managers. For National Forest System lands, contact Marian Kadota, Planning Forester, Adaptive Management Services Enterprise Team Forest Service, 1072 Casitas Pass Road #288, Carpinteria, CA 93013; phone and fax: (805) 220-6388 or e-mail to mkadota@fs.fed.us. For public lands managed by the BLM, contact Linn Gum, Chief, Lands & Minerals, Ridgecrest Field Office, Bureau of Land Management, 300 S. Richmond Road, Ridgecrest, CA 93555; fax: (760) 384-5499 or e-mail to Linn_Gum@ca.blm.gov. For non-federal lands, contact Chuck Holloway, LADWP, 111 North Hope Street, Room 1044, Los Angeles, CA 90012; fax: (213) 367-3582 or e-mail to charles.holloway@ladwp.com. Project information can also be requested by leaving a voice message to the Project Information Hotline at (877) 440-3592.

SUPPLEMENTARY INFORMATION:

Purpose and Need for Action

The primary purpose and need for the proposed project is to meet the State of California's Renewable Portfolio Standard (RPS) goals and reduce the environmental impacts associated with greenhouse gases (GHG) and emissions of other air pollutants. Current LADWP RPS goals call for 20% renewable energy by 2010 and 35% by 2020. GHG goals are set for CO2 emission reductions of 35% below 1990 levels by 2030.

In order to reach these goals, additional transmission capacity is necessary for the City of Los Angeles to reach and integrate the many proposed renewable energy projects located in the Mojave Desert and Owens Valley areas of Southern California. LADWP is developing two wind projects that would total 270 MW combined in the mountains northeast of Tehachapi. Furthermore, LADWP currently has several interconnection requests for approximately 1200 megawatts (MW) of renewable energy within the same geographical area. These renewable projects are proposed to interconnect to, or deliver power through, the Barren Ridge Switching Station which is being constructed approximately 12 miles north of Mojave on the Owens Gorge-Rinaldi line (OG-RIN) to interconnect LADWP's Pine Tree Wind Development Project.

The existing OG-RIN 230 kV transmission line, which has a 400 MW transfer capacity, currently is loaded with 160 MW of electrical load leaving only 240 MW of excess capacity. Maximizing the capacity of the existing OG-RIN corridor is the second need for the project to not only meet the current interconnection requests, but to utilize future renewable energy sources in this area which are projected by the California Energy Commission at over 4000 MW of wind and over 2000 MW of solar.

The third purpose of the project is to increase system reliability and flexibility. A new switching station would help LADWP meet NERC and WECC reliability requirements while providing greater flexibility in the utilization of both the proposed wind and solar energy within their electrical system.

Last, there is a need for LADWP to increase the efficient utilization of the Castaic Power Plant. The power plant is a pump-storage generation facility that would be used to integrate the intermittent renewable energy (wind, solar). This will allow LADWP to utilize its power plants transmission network in a more efficient manner as well as reduce its power system losses.

The Forest Service and BLM need is to respond to the applications from LADWP for a Special Use Authorization (50-year term), Right of Way Grant, and amendments to existing authorizations/grants.

Proposed Action

LADWP is proposing the following components to meet the purpose and need of the project:

• Construct approximately 60 miles of a new 230 kV double circuit structure system from the Barren Ridge Switching Station to Haskell Canyon. This proposed line would cross approximately 13 miles of National Forest System lands and four miles of public lands managed by the BLM;

• Install approximately 12 miles of a 230 kV circuit onto existing double circuit transmission line structures from Haskell Canyon to the Castaic Power Plant. This proposed line would cross approximately four miles of National Forest System lands and less than one mile of public lands managed by the BLM;

• Reconductor the existing OG-RIN Transmission Line with larger capacity conductors from the Barren Ridge Switching Station to the Rinaldi Substation located in the San Fernando Valley. Approximately 13 miles of National Forest System lands and four miles of BLM lands would be affected by the reconductoring.

• Construct the new Haskell Switching Station on LADWP-owned property north of Santa Clarita and just south of the Angeles National Forest managed lands.

Possible Alternatives

The Forest Service, BLM, and LADWP have identified preliminary alternatives to the proposed project/action:

• No-Action Alternative—the proposed project would not be constructed and no expansion or upgrade activities would occur.

• The following routing alternatives for construction of the proposed double circuit 230 kV transmission towers from Barren Ridge Switching Station to Haskell Canyon are being considered:

○ From the Barren Ridge Substation through the Antelope Valley, one alternative route was identified along the LADWP aqueduct.

○ From the Antelope Valley to the proposed Haskell Switching Station, three alternative routes were identified: (1) Corridor along LADWP aqueduct and generally following the Interstate 5 corridor parallel to several existing transmission lines south to the Castaic Power Plant, (2) corridor along SCE's Antelope-Pardee 500 kV Transmission Line through Bouquet Canyon, or (3) Minimal-National Forest System lands route through Mint Canyon parallel to several existing transmission lines.

• An alternative that would consider the authorized width on National Forest System lands less than the 200-foot corridor proposed.

Lead and Cooperating Agencies

The Forest Service, BLM, and LADWP are joint lead agencies in accordance with 40 CFR 1501.5(b), and are responsible for the preparation of the EIS/EIR. The Forest Service and BLM will serve as co-lead agencies under NEPA for preparation of the EIS. The LADWP will serve as the lead agency under CEQA for preparation of the EIR. Scoping will determine if additional cooperating agencies are needed.

Responsible Official

The Forest Service responsible official for the preparation of the EIS/EIR is Jody Noiron, Forest Supervisor, Angeles National Forest, 701 N. Santa Anita Avenue, Arcadia, CA 91006. The BLM responsible official for the preparation of the EIS/EIR is Hector Villalobos, Field Office Manager, Ridgecrest Field Office, Bureau of Land Management, 300 S. Richmond Road, Ridgecrest, CA 93555.

Nature of Decision To Be Made

The Forest Supervisor will decide whether or not to authorize a 50-year term Special Use Authorization for an approximate 13-mile, 200-foot-wide right-of-way for construction, operation and maintenance of a 230 kV transmission line parallel to the existing OG-RIN transmission line route (or alternative route) constructed on new double circuit structures and amend two existing Special Use Authorizations for: (1) The conductoring of the empty position of one of the existing Castaic Power Plant 230 kV double-circuit transmission line towers from the Castaic Power Plant to Haskell Canyon (approximately 4 miles across National Forest System lands), and (2) the replacement of conductors on the OG-RIN 230 kV transmission line (approximately 13 miles across National Forest System lands). The authorizations could include ancillary improvements on National Forest System lands needed to maintain the transmission system (i.e. double circuit towers, roads, communication equipment). The Forest Supervisor will only make a decision regarding the proposed project on National Forest System lands.

The BLM Ridgecrest Field Office Manager would have several authorizations to be made as part of the project. The BLM Field Office Manager would decide whether to authorize a Right-Of-Way Grant for an approximate 4-mile, 200-foot-wide right-of-way for construction, operation and maintenance of a 230 kV transmission line parallel to the existing OG-RIN transmission line route (or alternative route) constructed on new double circuit structures. Additional authorizations to be made by the Field Office Manager include revising existing Right-Of-Way Grants for: (1) The conductoring of the empty position of one of the existing Castaic Power Plant 230 kV double-circuit transmission line towers from the Castaic Power Plant to Haskell Canyon (less than 1 mile across public lands managed by BLM), and (2) the replacement of conductors on the OG-RIN 230 kV transmission line (approximately 4 miles across public lands managed by BLM). The authorizations would include ancillary improvements on public lands needed to maintain the transmission system (i.e. double circuit towers, roads, communication equipment).

Scoping Process

The lead agencies will be seeking information, issues, comments and assistance from Federal, State and local agencies, Native American tribes, and other individuals and organizations that may be interested in or affected by the proposed project. This input will be used in preparation of the Draft EIS/EIR.

Seven scoping meetings are proposed to provide information about the proposed project to the public and to allow people to comment on the proposed project. The scoping meetings will be held on the following dates, times, and locations:

1. April 22, 2008, Open House 5:30-8:30 p.m., Presentation at 7 p.m., Santa Clarita Activity Center, 20880 Centre Point Parkway, Santa Clarita, CA.

2. April 23, 2008, Open House 5:30-8:30 p.m., Presentation at 7 p.m., Agua Dulce Women's Club, 33201 Agua Dulce Canyon, Agua Dulce, CA.

3. April 24, 2008, Open House 5:30-8:30 p.m., Presentation at 7 p.m., Castaic Middle School, 28900 Hillcrest Parkway, Castaic, CA.

4. April 28, 2008, Open House 5:30-8:30 p.m., Presentation at 7 p.m., Hughes-Elizabeth Lakes Union School, 16633 Elizabeth Lake Road, Lake Hughes, CA.

5. April 29, 2008, Open House 5:30-8:30 p.m., Presentation at 7 p.m., Frazier Mountain High School, 700 Falcon Way, Lebec, CA.

6. April 30, 2008, Open House 5:30-8:30 p.m., Presentation at 7 p.m., Hillview School, 40525 Peonza Lane, Palmdale, CA.

7. May 1, 2008, Open House 5:30-8:30 p.m., Presentation at 7 p.m., California City Middle School, 9736 Redwood Blvd., California City, CA 93505.

All public meetings will be announced at least 15 days prior to the event through the local newspapers, the FS Web site http://www.fs.fed.us/r5/angeles/projects/ and the BLM Web site http://www.ca.blm.gov/ridgecrest. In addition to the ongoing public participation process, formal opportunities for public participation would be provided upon publication of the Draft EIS/EIR.

Preliminary Issues

The environmental studies to be conducted as part of the EIS/EIR review process will identify potential impacts associated with the proposed project. However, based on previous projects of similar type, size, and scope, the following are preliminary issues that would likely be evaluated in the draft EIS/EIR: Visual resources; air quality; agriculture; biological resources; cultural and paleontological resources; hazards and hazardous materials; hydrology and water quality; land use, recreation, and planning; noise; and transportation. Other potential impacts to be evaluated include forest management related impacts and impacts to the management and use of public lands; and electric and magnetic fields and health effects.

Permits or Licenses Required

A 50-year term Special Use Authorization by the Forest Supervisor of the Angeles National Forest and Right-Of-Way Grant from the BLM Ridgecrest Field Office Manager will authorize LADWP for the construction, maintenance, and use of the new 230 kV transmission line on double circuit towers. Existing Special Use Permits and Right-Of-Way Grants would be amended for authorization of the replacement, maintenance, and use of electrical conductors associated with the OG-RIN 230 kV transmission line, and for the construction, maintenance and use of a second electrical circuit on existing double circuit structures from the Castaic Power Plant.

Additional permits may be required by LADWP to construct the project. These could include: Section 404 Permit by the U.S. Army Corps of Engineers, Federal Aviation Administration Permit for Construction or Alteration, National Pollutant Discharge Elimination System General Construction Permit issued by California's Regional Water Quality Control Board, Streambed Alteration Agreement issued by the California Department of Fish and Game, Permit to Construct issued by the South Coast Air Quality Management District, Encroachment Permit issued by California Department of Transportation, and Encroachment Permits issued by Kern and Los Angeles Counties.

Comment Requested

This notice of intent initiates the scoping process which guides the development of the EIS/EIR. The Lead Agencies are seeking public and agency comment on the proposed project/action to identify major issues to be analyzed in depth and assistance in identifying potential alternatives to be evaluated. Comments received on this notice, including the names and addresses of those who comment, will be considered as part of the public record on this proposed project/action, and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Lead Agencies will inform the requester of the decision regarding the request for confidentiality. Where the request is denied, the agency will return the submission and notify the requester that the comments may be resubmitted, without names and addresses, within a specified number of days.

Early Notice of Importance of Public Participation in Subsequent Environmental Review

A draft EIS/EIR will be prepared for comment. The comment period on the Draft EIS/EIR will be 45 days from the date the Environmental Protection Agency publishes the notice of availability in the Federal Register.

The Lead Agencies believe, at this early stage, it is important to give reviewers notice of several court rulings related to public participation in the environmental review process. First, reviewers of draft EIS/EIR must structure their participation in the environmental review of the proposal so that it is meaningful and alerts an agency to the reviewer's position and contentions. Vermont Yankee Nuclear Power Corp. v. NRDC, 435 U.S. 519, 553 (1978). Also, environmental objections that could be raised at the draft EIS/EIR stage but that are not raised until after completion of the final EIS/EIR may be waived or dismissed by the courts. City of Angoon v. Hodel, 803 F2.d 1016, 1022 (9th Circ. 1986) and Wisconsin Heritages, Inc v. Harris, 490 F. Supp. 1334, 1338 (E.D. Wis. 1980). Because of these court rulings, it is very important that those interested in this proposed action participate by the close of the 45 day comment period so that substantive comments and objections are made available to the Lead Agencies at a time when they can meaningfully consider them and respond to them in the final EIS/EIR.

To assist the Lead Agencies in identifying and considering issues and concerns on the proposed action, comments on the draft EIS/EIR should be as specific as possible. It is also helpful if comments refer to specific pages or chapters of the draft EIS/EIR. Comments may also address the adequacy of the draft EIS/EIR or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21; BLM Handbook H-1790-1, Section V.

Dated: March 27, 2008.
Jody Noiron,
Angeles Forest Supervisor, U.S. Department of Agriculture, Forest Service.
Dated: March 28, 2008.
Hector Villalobos,
Field Office Manager, U.S. Department of the Interior, Bureau of Land Management.

[FR Doc. E8-6897 Filed 4-2-08; 8:45 am]

BILLING CODE 3410-11-P